OFFICE OF PERSONNEL MANAGEMENT

Submission for Review: Report of Withholdings and Contributions for Health Benefits, Life Insurance and Retirement (Standard Form 2812); Report of Withholdings and Contributions for Health Benefits By Enrollment Code (Standard Form 2812-A); Supplemental Semiannual Headcount Report (OPM Form 1523), 3206-0262

AGENCY: Office of Personnel Management.

ACTION: 30-day notice and request for comments.

SUMMARY: Trust Funds Group of the Office of Chief Financial Officer, Office of Personnel Management (OPM) offers the general public and other Federal agencies the opportunity to comment on changes to the existing information collection request (ICR) 3206-0262, Standard Form 2812, Standard Form 2812-A, and OPM Form 1523. As required by the Paperwork Reduction Act of 1995, (Pub. L. 104-13, 44 U.S.C. chapter 35) as amended by the Clinger-Cohen Act (Pub. L. 104-106), OPM is soliciting comments for this collection. The information collection was previously published in the Federal Register on December 8, 2014 at Volume 79 FR 72710 allowing for a 60-day public comment period. No comments were received for this information collection. The purpose of this notice is to allow an additional 30 days for public comments.

DATES: Comments are encouraged and will be accepted until May 4, 2015. This process is conducted in accordance with 5 CFR 1320.1.

ADDRESSES: Interested persons are invited to submit written comments on the proposed information collection to the Office of Information and Regulatory Affairs, Office of Management Budget, 725 17th Street NW., Washington, DC 20503, Attention: Desk Officer for the Office of Personnel Management or sent via electronic mail to oira_submission@omb.eop.gov or faxed to (202) 395-6974.

FOR FURTHER INFORMATION CONTACT: A copy of this ICR, with applicable supporting documentation, may be obtained by contacting the Office of Information and Regulatory Affairs, Office of Management Budget, 725 17th Street NW., Washington, DC 20503, Attention: Desk Officer for the Office of Personnel Management or sent via electronic mail to oira_submission@omb.eop.gov or faxed to (202) 395-6974.

SUPPLEMENTARY INFORMATION: The Office of Management and Budget is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Section 401 of the “Bipartisan Budget Act of 2013,” signed into law by the President on December 26, 2013, makes another change to the Federal Employees' Retirement System (FERS). Beginning January 1, 2014, new employees (as designated in the statute) will have to pay higher employee contributions, an increase of 1.3 percent of salary above the percentage set for the FERS Revised Annuity Employees (RAE). Section 8401 of Title 5, United States Code, has been amended to add a new definition of FERS Further Revised Annuity Employees (FRAE). With one exception, there is no difference in the FERS basic benefit paid to FERS, FERS-RAE, and FERS-FRAE employees. (The FERS basic benefit for congressional employees and Members of Congress under FERS-RAE and FERS-FRAE is different than the basic benefit paid to those groups under FERS.)

Analysis

Agency: Trust Funds Group of the Office of Chief Financial Officer, Office of Personnel Management.

Title: (1) Report of Withholdings and Contributions for Health Benefits, Life Insurance and Retirement (Standard Form 2812); (2) Report of Withholdings and Contributions for Health Benefits By Enrollment Code (Standard Form 2812-A); (3) Supplemental Semiannual Headcount Report (OPM Form 1523).

OMB Number: 3206-0262.

Affected Public: Public Entities with Federal Employees and Retirees.

Number of Respondents: 100.

Estimated Time per Respondent: 30 minutes.

Total Burden Hours: 2,700.

U.S. Office of Personnel Management.
Katherine Archuleta,
Director.

[FR Doc. 2015-07658 Filed 4-2-15; 8:45 am]

BILLING CODE 6325-23-P